DEPARTMENT OF HOMELAND SECURITY

Federal Emergency Management Agency

44 CFR Part 65

[Docket ID FEMA-2010-0003; Internal Agency Docket No. FEMA-B-1162]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arkansas: Benton | City of Bentonville (09-06-3053P) | July 30, 2010; August 6, 2010; The Benton County Daily Record | The Honorable Bob McCaslin, Mayor, City of Bentonville, 117 West Central Avenue, Bentonville, AR 72712 | December 6, 2010 | 050012
Oklahoma: Tulsa | City of Tulsa (10-06-2150P) | August 6, 2010; August 13, 2010; The Tulsa World | The Honorable Dewey Bartlett, Mayor, City of Tulsa, 175 East 2nd Street, Suite 690, Tulsa, OK 74103 | July 30, 2010 | 405381
Pennsylvania: Montgomery | Township of Upper Merion (10-03-0510P) | July 23, 2010; July 30, 2010; The Times Herald | Mr. Ronald Wagenmann, Upper Merion Township Manager, 175 West Valley Forge Road, King of Prussia, PA 19406 | July 16, 2010 | 420957
Texas:
Potter and Randall | City of Amarillo (10-06-2283P) | August 20, 2010; August 26, 2010; The Amarillo Globe-News | The Honorable Debra McCartt, Mayor, City of Amarillo, P.O. Box 1971, Amarillo, TX 79105 | August 13, 2010 | 480529
Brazoria | Unincorporated areas of Brazoria County (10-06-1185P) | August 9, 2010; August 16, 2010; The Facts | The Honorable Joe King, Brazoria County Judge, 111 East Locust Street, Angleton, TX 77515 | August 26, 2010 | 485458
Williamson | City of Cedar Park (09-06-3455P) | September 9, 2010; September 16, 2010; The Hill Country News | The Honorable Bob Lemon, Mayor, City of Cedar Park, 600 North Bell Boulevard, Cedar Park, TX 78613 | January 14, 2011 | 481282
Tarrant | City of Fort Worth (10-06-1675P) | July 13, 2010; July 20, 2010; The Fort Worth Star-Telegram | The Honorable Michael J. Moncrief, Mayor, City of Fort Worth, 1000 Throckmorton Street, Fort Worth, TX 76102 | November 17, 2010 | 480596
Harris | Unincorporated areas of Harris County (10-06-0320P) | September 7, 2010; September 14, 2010; The Houston Chronicle | The Honorable Ed Emmett, Harris County Judge, 1001 Preston Street, Suite 911, Houston, TX 77002 | January 12, 2011 | 480287
Johnson | Unincorporated areas of Johnson Countyn (10-06-0427P) | July 20, 2010; July 27, 2010; The Fort Worth Star-Telegram | The Honorable Roger Harmon, Johnson County Judge, 2 Main Street, Cleburne, TX 76033 | November 24, 2010 | 480879
Johnson | City of Mansfield (10-06-0427P) | July 20, 2010; July 27, 2010; The Fort Worth Star-Telegram | The Honorable David Cook, Mayor, City of Mansfield, 1200 East Broad Street, Mansfield, TX 76063 | November 24, 2010 | 480606
Brazoria | City of Manvel (10-06-1185P) | August 9, 2010; August 16, 2010; The Alvin Sun | The Honorable Delores Martin, Mayor, City of Manvel, P.O. Box 187, Manvel, TX 77578 | August 26, 2010 | 480076
Tarrant | City of North Richland Hills (10-06-1011P) | August 4, 2010; August 11, 2010; The Fort Worth Star-Telegram | The Honorable Oscar Trevino, Mayor, City of North Richland Hills, 7301 Northeast Loop 820, North Richland Hills, TX 76180 | July 28, 2010 | 480607
Comal | City of Schertz (09-06-3497P) | August 23, 2010; August 30, 2010; The Daily Commercial Recorder | The Honorable Harold D. Baldwin, Mayor, City of Schertz, 1400 Schertz Parkway, Schertz, TX 78154 | August 13, 2010 | 480269
Tarrant | City of Watauga (09-06-3519P) | June 8, 2010; June 15, 2010; The Fort Worth Star-Telegram | The Honorable Henry Jeffries, Mayor, City of Watauga, 7105 Whitley Road, Watauga, TX 76148 | October 13, 2010 | 480613
Collin | City of Wylie (10-06-1838P) | August 25, 2010; September 1, 2010; The Wylie News | The Honorable Eric Hogue, Mayor, City of Wylie, 2000 State Highway 78 North, Wylie, TX 75098 | December 30, 2010 | 480759

(Catalog of Federal Domestic Assistance No. 97.022, “Flood Insurance.”)

Dated: December 3, 2010.
Sandra K. Knight,
Deputy Federal Insurance and Mitigation Administrator, Mitigation, Department of Homeland Security, Federal Emergency Management Agency.

[FR Doc. 2010-32899 Filed 12-29-10; 8:45 am]

BILLING CODE 9110-12-P